DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility to Apply for Trade Adjustment Assistance
[11/18/2011 through 12/21/2011]
Firm name | Address | Date accepted for investigation | Products
Anova, Inc | 2400 Kerper Blvd. Ste. D90, Dubuque, IA 52001 | 12/8/2011 | The firm manufactures custom injection molded plastic parts and components such as plugs, clips, rings, handles and small doors.
Applied Engineering, Inc | 2008 East Highway 50, Yankton, SD 57078 | 12/7/2011 | The firm manufactures aluminum precision machined components for commercial, aerospace, defense and medical markets.
Black Hills Nanosystems Corp | 2445 Dyess Ave. Rapid City, SD 57701 | 12/1/2011 | The firm manufactures semiconductor devices, nanotechnology-based EFI devices to improve the safety and effectiveness of munitions.
My Music Machines, Inc | 1038 Tomahawk Trail Scotia, NY 12302 | 12/14/2011 | The firm manufacturers wind controlled musical instruments that are amplified electrically.
PJ Maxwell | 700 East Park Avenue Libertyville, IL 60048 | 11/15/2011 | The firm manufactures kitchen utensils for the retail kitchen industry.
Poly Plastic Products, Inc | 1751 S. Interstate Hwy. 45, Ferris, TX 75125 | 12/21/2011 | The firm prints, laminates, and converts printed or plain plastics and specialty films into bags, rolls, pouches, and sheets.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: December 21, 2011.
Miriam Kearse,
Eligibility Certifier.

[FR Doc. 2011-33403 Filed 12-28-11; 8:45 am]

BILLING CODE 3510-WH-P